INTERNATIONAL TRADE COMMISSION

[Investigation No. 731-TA-130 (Third Review)]

Chloropicrin From China

AGENCY: United States International Trade Commission.

ACTION: Revised schedule for the subject review.

DATES: Effective Date: February 17, 2010.

FOR FURTHER INFORMATION CONTACT: Cynthia Trainor (202-205-3354), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On October 15, 2009, the Commission established a schedule for the conduct of this review (74 FR 55065, October 26, 2009).

Subsequently, counsel for three domestic interested parties filed a request to appear at the hearing or, in the alternative, for leave to submit written testimony in lieu of an oral presentation. In connection with the offer of written testimony, counsel indicated a willingness to respond to written questions of the Commissioners by a date to be set by the Commission. No other party filed a request to appear at the hearing. Consequently, the public hearing in connection with the review, scheduled to begin at 9:30 a.m. on February 18, 2010, at the U.S. International Trade Commission Building is cancelled.

The Commission has determined to accept the offer to submit written testimony in lieu of an oral public hearing presentation. Written testimony shall be filed with the Commission by the close of business on Thursday, February 18, 2010. The parties are expected to respond to the Commission's written questions in their post-hearing briefs, which are due to be filed on March 1, 2010.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: February 17, 2010.
Marilyn R. Abbott,
Secretary to the Commission.

[FR Doc. 2010-3530 Filed 2-22-10; 8:45 am]

BILLING CODE 7020-02-P